DEPARTMENT OF HOMELAND SECURITY

Coast Guard

33 CFR Part 110

[Docket No. USCG-2008-0076]

RIN 1625-AA01

Anchorage Regulations; Yarmouth, ME, Casco Bay; Correction

AGENCY: Coast Guard, DHS.

ACTION: Correcting amendments.

SUMMARY: The Coast Guard published a final rule in the Federal Register on March 12, 2008 (73 FR 13125), creating three special anchorage areas in Yarmouth, Maine. That rule contained imprecise coordinates. With this document the Coast Guard is correcting the coordinates of the boundaries to the three Yarmouth special anchorages listed in 33 CFR 110.5, in response to more detailed information received from the National Ocean Service (NOS). These changes will not affect the locations or the size of the anchorages.

DATES: This correction is effective November 3, 2008.

FOR FURTHER INFORMATION CONTACT: If you have questions on this rule, call Mr. John J. Mauro, First Coast Guard District Prevention and Waterways, (617) 223-8355, E-mail: John.J.Mauro@uscg.mil.

SUPPLEMENTARY INFORMATION:

Background

On March 12, 2008, we published a final rule entitled Anchorage Regulations; Yarmouth, ME, Casco Bay in the Federal Register (73 FR 13125) establishing three Special Anchorage areas in Yarmouth, Maine, Casco Bay. However, NOS notified the Coast Guard that the geographic coordinates for Madeleine and Sandy Point Special Anchorage and Drinkwater Point and Princes Point Special Anchorages used in the NPRM and final rules created a boundary that did not entirely enclose the anchorage areas. NOS is able to plot very precise coordinates, and determined that the published coordinates allowed a “gap” of a few yards in the boundaries of these anchorages. The Coast Guard has reviewed the updated coordinates and graphics sent by NOS and agrees with NOS's assessment. We have issued this correction with the updated coordinates for the boundaries according to NOS's assessment. We will notify mariners of this correction via the Local Notice to Mariners once this rule appears in the Federal Register.

Need for Correction

As published, the final rule contains errors that need to be clarified. The boundaries of an anchorage area should completely enclose the area, without any gaps that could create confusion when represented on a chart.

List of Subjects in 33 CFR Part 110

Anchorage grounds.

For the reasons discussed in the preamble, the Coast Guard corrects 33 CFR part 110 by making the following correcting amendments:

PART 110—ANCHORAGE REGULATIONS

1. The authority citation for part 110 continues to read as follows:

Authority: 33 U.S.C. 471; 1221 through 1236, 2030, 2035, 2071; 33 CFR 1.05-1; Department of Homeland Security Delegation No. 0170.1.

2. Revise § 110.5 paragraph (f) to read as follows:

§ 110.5 Casco Bay, Maine.

* * * * *

(f) Yarmouth Harbor and adjacent waters—(1) Littlejohn Island/Doyle Point Cousins Island Special Anchorage. All of the waters enclosed by a line connecting the following points: Starting from the northernmost point of Littlejohn Island at latitude 43°45′51.6″ N, longitude 70°06′57.0″ W; thence to latitude 43°45′46.8″ N, longitude 70°06′53.4″ W; thence to latitude 43°45′25.8″ N, longitude 70°07′22.8″ W; thence to latitude 43°45′16.8″ N, longitude 70°07′40.8″ W; thence to latitude 43°44′57.0″ N, longitude 70°08′27.0″ W; thence to latitude 43°44′59.9″ N, longitude 70°08′30.0″ W. DATUM: NAD 83.

(2) Madeleine and Sandy Point Special Anchorage. All of the waters enclosed by a line connecting the following points: Starting from a point northeast of Birch Point on Cousins Island at latitude 43°45′15.1″ N, longitude 70°09′16.8″ W; thence to latitude 43°45′21.0″ N, longitude 70°09′30.0″ W; thence to latitude 43°45′37.8″ N, longitude 70°09′10.8″ W; thence to latitude 43°45′57.0″ N, longitude 70°08′58.8″ W; thence to latitude 43°46′01.3″ N, longitude 70°08′45.0″ W. DATUM: NAD 83.

(3) Drinkwater Point and Princes Point Special Anchorage. All of the waters enclosed by a line connecting the following points: Starting south of Drinkwater Point in Yarmouth, Maine at latitude 43°46′26.8″ N, longitude 70°09′17.0″ W; thence to latitude 43°46′21.0″ N, longitude 70°09′09.6″ W; thence to latitude 43°46′04.2″ N, longitude 70°09′46.2″ W; thence to latitude 43°45′28.8″ N, longitude 70°10′24.0″ W; thence to latitude 43°45′43.2″ N, longitude 70°10′24.0″ W. DATUM: NAD 83.

Note to paragraph (f). An ordinance of the Town of Yarmouth, Maine requires the approval of the Yarmouth Harbor Master for the location and type of moorings placed in these special anchorage areas. All anchoring in the areas are under the supervision of the Yarmouth Harbor Master or other such authority as may be designated by the authorities of the Town of Yarmouth, Maine. All moorings are to be so placed that no moored vessel will extend beyond the limit of the anchorage area.

Dated: September 16, 2008.
Liam J. Slein,
Captain, U.S. Coast Guard, Acting Commander, First Coast Guard District.

[FR Doc. E8-23200 Filed 10-1-08; 8:45 am]

BILLING CODE 4910-15-P